DEPARTMENT OF HOMELAND SECURITY

U.S. Customs and Border Protection

[Docket No. USCBP-2020-0053]

Commercial Customs Operations Advisory Committee (COAC); Meeting

AGENCY: U.S. Customs and Border Protection (CBP), Department of Homeland Security (DHS).

ACTION: Committee Management; notice of Federal Advisory Committee meeting.

SUMMARY: The Commercial Customs Operations Advisory Committee (COAC) will hold its quarterly meeting on Wednesday, October 7, 2020. The meeting will be open to the public via webinar only. There is no on-site, in-person option for this quarterly meeting.

DATES: The COAC will meet on Wednesday, October 7, 2020, from 1:00 p.m. to 5:00 p.m. EDT. Please note that the meeting may close early if the committee has completed its business. Comments must be submitted in writing no later than October 6, 2020.

ADDRESSES: The meeting will be held via webinar. The webinar link and conference number will be provided to all registrants by 10:00 a.m. EDT on October 7, 2020. For information on facilities or services for individuals with disabilities or to request special assistance at the meeting, contact Ms. Florence Constant-Gibson, Office of Trade Relations, U.S. Customs and Border Protection (CBP), at (202) 344-1440, as soon as possible.

FOR FURTHER INFORMATION CONTACT: Ms. Florence Constant-Gibson, Office of Trade Relations, U.S. Customs and Border Protection, 1300 Pennsylvania Avenue NW, Room 3.5A, Washington, DC 20229; telephone (202) 344-1440; or Ms. Valarie Neuhart, Deputy Executive Director and Designated Federal Officer, at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate via webinar, please register online at https://teregistration.cbp.gov/index.asp?w=211 by 5:00 p.m. EDT by October 6, 2020. For members of the public who are pre-registered to attend the webinar and later need to cancel, please do so by October 6, 2020, utilizing the following link: https://teregistration.cbp.gov/cancel.asp?w=211.

Please feel free to share this information with other interested members of your organization or association.

To facilitate public participation, we are inviting public comment on the issues the committee will consider prior to the formulation of recommendations as listed in the Agenda section below.

Comments must be submitted in writing no later than October 6, 2020, and must be identified by Docket No. USCBP-2020-0053, and may be submitted by one (1) of the following methods:

• Federal eRulemaking Portal: http://www.regulations.gov. Follow the instructions for submitting comments.

• Email: tradeevents@cbp.dhs.gov. Include the docket number in the subject line of the message.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2020-0053) for this action. Comments received will be posted without alteration at http://www.regulations.gov. Please do not submit personal information to this docket.

Docket: For access to the docket or to read background documents or comments, go to http://www.regulations.gov and search for Docket Number USCBP-2020-0053. To submit a comment, click the “Comment Now!” button located on the top-right hand side of the docket page.

There will be multiple public comment periods held during the meeting on October 7, 2020. Speakers are requested to limit their comments to two (2) minutes or less to facilitate greater participation. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Intelligent Enforcement Subcommittee will discuss its White Paper on Enforcement Modernization to support CBP's 21st Century Customs Framework, which aims to further improve risk management and the impact of efforts to detect high-risk activity, deter non-compliance, and disrupt fraudulent behavior by better utilizing technology, big data, and predictive analysis to drive decision-making. The subcommittee also will discuss prioritized past recommendations and any new recommendations from the Anti-Dumping/Countervailing Duty (AD/CVD), Bond, Intellectual Property Rights (IPR), and Forced Labor Working Groups. The Forced Labor Working Group will present recommendations on CBP's existing forced labor allegations submission mechanisms including the e-Allegations web portal.

2. The Secure Trade Lanes Subcommittee will provide updates on the Trusted Trader Working Group's activities specific to the CTPAT Trade Compliance program enhancements including benefits, Participating Government Agency engagement, and forced labor. The Export Modernization Working Group will provide updates and recommendations focusing on improving current export processes. The subcommittee will also report on the activities of the Remote and Autonomous Cargo Processing Working Group.

3. The Next Generation Facilitation Subcommittee will provide an update on the progress of the One U.S. Government Working Group with Partner Government Agencies regarding advancement in Trusted Trader initiatives. There will be an update on the progress of the Unified Entry Processing Working Group's operational framework. Finally the Emerging Technologies Working Group will provide an assessment of various technologies evaluated this past quarter that could be adapted for CBP and the trade.

4. The Rapid Response Subcommittee will provide updates on the United States—Mexico—Canada Agreement (USMCA) Automotive Working Group activities regarding the plans for Auto Certification Submissions and challenges/concerns post entry into force of the USMCA. The Broker Exam Modernization Working Group will discuss alternate locations for broker exams and remote proctoring exam options.

Meeting materials will be available by October 5, 2020, at: http://www.cbp.gov/trade/stakeholder-engagement/coac/coac-public-meetings.

Dated: September 16, 2020.
Valarie M. Neuhart,
Deputy Executive Director, Office of Trade Relations.

[FR Doc. 2020-20747 Filed 9-18-20; 8:45 am]

BILLING CODE 9111-14-P